DEPARTMENT OF ENERGY

Federal Energy Regulatory Commission

[Docket No. CP02-155-001]

In the Matter of Gulf South Pipeline Company, L.P.; Notice of Compliance Filing

December 26, 2002.

Take notice that on December 20, 2002, Gulf South Pipeline Company (Gulf South), 20 East Greenway, Houston, Texas 77046, filed in the referenced proceeding, pursuant to section 7(c) of the Natural Gas Act, as amended, a compliance filing as required by the Commission's Order Issuing Certificate, issued November 21, 2001, (101 FERC 61,204 (2002). In this filing, Gulf South is submitting pro forma tariff sheets to revise its FSS-M Rate Schedule for the Magnolia Gas Storage Facility and providing an explanation of how it is marketing the firm storage capacity at Magnolia, along with a copy of the information package sent to interested parties. The filing is on file with the Commission and open to public inspection. This filing may be viewed on the web at http://www.ferc.gov using the “FERRIS” link (please call (202) 502-8423 for assistance).

The name, address, and telephone number of the person to whom correspondence and communications concerning this application should be addressed is: J. Kyle Stephens, Director of Certificates; Gulf South Pipeline Company, L.P., 20 East Greenway Plaza, Houston, Texas, 77046; phone: (713) 544-7309; fax: (713) 544-3540; e:mail: kyle.stephens@gulfsouthpl.com.

Any person desiring to be heard or to make any protest with reference to said application should on or before January 16, 2003, file with the Commission, 888 First Street NE., Washington, DC 20426, a motion to intervene or protest in accordance with the requirements of the Commission's Rules of Practice and Procedure, 18 C F R 385.211 or 385.214, and the Regulations under the Natural Gas Act, 18 CFR 157.10. All protests filed with the Commission will be considered by it in determining the appropriate action to be taken but will not serve to make the protestants parties to the proceedings. Any person wishing to become a party to a proceeding or to participate as a party in any hearing therein must file a motion to intervene in accordance with the Commission's rules. Comments, protests, and interventions may be filed electronically via the internet in lieu of paper. Instructions may be found on the Commission's Web site under the “e-Filing” link.

Linwood A. Watson, Jr.,
Deputy Secretary.

[FR Doc. 02-33050 Filed 12-31-02; 8:45 am]

BILLING CODE 6717-01-P